DEPARTMENT OF ENERGY

National Energy Technology Laboratory; Notification of Plans for a Public Hearing on the Draft Environmental Impact Statement for the Proposed Low-Emission Boiler System Proof-of-Concept Project

AGENCY: National Energy Technology Laboratory, U.S. Department of Energy.

ACTION: Notice of public hearing.

SUMMARY: Pursuant to the National Environmental Policy Act (NEPA) of 1969, as amended (42 U.S.C. 4321 et seq.), the Council on Environmental Quality NEPA regulations (40 CFR parts 1500-1508), and the DOE Regulations Implementing NEPA (10 CFR part 1021), the U.S. Department of Energy (DOE), has issued a Draft Environmental Impact Statement (the Draft EIS) for the Low-Emission Boiler System Proof-of-Concept Project in Logan County, IL, and scheduled a public hearing in Elkhart, IL, to receive comments on the Draft EIS.

The Draft EIS (DOE/EIS-0284) has been distributed to members of Congress, Federal and state regulatory agencies, state and local government officials, national stakeholders, and other interested persons and organizations. Copies of the Draft EIS have been made available at the Elkhart Public Library for public review, and the Draft EIS is also available for review at the following Internet site: http://www.eh.doe.gov/nepa/docs/deis/deis.html.

DATES: DOE invites members of Congress; State, local, and tribal governments; other Federal agencies; and the general public to provide comments on the Draft EIS. The comment period on the Draft EIS runs through April 19, 2004; DOE will consider all comments received by that date in preparing a Final EIS. Comments received after April 19, 2004, will be considered to the extent practicable. Written, oral, fax, or e-mail comments will be considered (see ADDRESSES). DOE will conduct a public hearing on March 30, 2004, to provide an opportunity for the public to present comments on the draft document, ask questions, and discuss concerns with DOE officials regarding the Draft EIS. The date, time, and location for the public hearing are as follows: March 30, 2004, 7 p.m.-9 p.m., Elkhart Grade School, 206 South Gillett Street, Elkhart, IL. DOE officials will be available beginning at 5 p.m. on the day of the meeting for informal discussions on the project and the NEPA process. Displays and other forms of information about the proposed Low-Emission Boiler System Proof-of-Concept Project will be available.

ADDRESSES: A copy of the Draft EIS may be obtained upon request by writing to Lloyd Lorenzi, U.S. Department of Energy, National Energy Technology Laboratory, P.O. Box 10940, Pittsburgh, PA, 15236; by telephone (412) 386-6159; by facsimile (412) 386-4822; or by e-mail (lorenzi@netl.doe.gov).

Comments concerning the Draft EIS can be submitted by the means described above or by leaving a message at toll-free number 1-800-276-9851. Specific information regarding the public hearing can also be obtained from the DOE contact noted above.

FOR FURTHER INFORMATION CONTACT: For general information on the Low-Emission Boiler System Proof-of-Concept Project or the NEPA process for this Project, please contact Mr. Lloyd Lorenzi at the address provided above. For general information on the DOE NEPA process, contact Ms. Carol M. Borgstrom, Director, Office of NEPA Policy and Compliance (EH-42), U.S. Department of Energy, 1000 Independence Avenue, SW., Washington, DC 20585-0119; telephone 202-586-4600 or leave a message at 1-800-472-2756.

SUPPLEMENTARY INFORMATION: The Draft EIS evaluates the potential environmental impacts of the Low-Emission Boiler System project that was proposed by Babcock Power, Inc., to demonstrate reliable and economical technologies for meeting the environmental performance requirements of coal-fired power generation. DOE's proposed action is to provide cost-shared funding of approximately $30 million (about 23.5% of the total cost) for the proposed project. The Department of Agriculture, Rural Utilities Service, is participating as a cooperating agency in the preparation of this EIS, and may provide financing for a portion of the proposed project. The project would involve constructing and operating a 91 megawatt-electric coal-fired generating plant on property owned by Turris Coal Company adjacent to its existing mining operations near Elkhart, IL. The plant would be owned and operated by Corn Belt Energy Corporation.

The Draft EIS also evaluates the environmental impacts of a no-action alternative under which DOE would not provide cost-shared funding. Alternative sites and technologies that were considered in developing the proposed project are also presented. The Draft EIS analyzes potential impacts on air quality, aesthetics and land use, surface water and groundwater, solid waste, traffic and transportation, ecological and cultural resources, noise, socioeconomics, environmental justice, and other resources.

Public Hearing Process: DOE will conduct a public hearing at the Elkhart Grade School, 206 South Gillett Street, Elkhart, IL, on March 30, 2004, at 7 p.m. In addition, the public is invited to an informal session at this location beginning at 5 p.m. to learn more about the proposed Low-Emission Boiler System project. Displays and other information about the project will be available, and DOE personnel will be present to discuss the proposed project and the NEPA process.

The formal hearing will begin at 7 p.m. DOE invites people who wish to speak at this public hearing to contact Mr. Lloyd Lorenzi, either by phone, fax, e-mail, or in writing (see ADDRESSES in this notice). People who do not arrange in advance to speak may register at the meeting and will be provided opportunities to speak following previously scheduled speakers. Speakers will be requested to limit their initial comments to about five minutes. Speakers who need more than five minutes should indicate the length of time desired in their request. Depending on the number of speakers, DOE may need to limit speakers to five minutes initially but will provide additional opportunities as time permits. Speakers may also provide written materials to supplement their presentations. Oral and written comments will be given equal consideration.

DOE will begin the meeting with an overview of the proposed Low-Emission Boiler System Project. The meeting will not be conducted as an evidentiary hearing, and speakers will not be cross-examined. However, speakers may be asked questions to help ensure that DOE fully understands their comments or suggestions. A presiding officer will establish the order of speakers and provide any additional procedures necessary to conduct the meeting.

Issued in Pittsburgh, PA, on March 8, 2004.
Lloyd Lorenzi, Jr.,
NEPA Compliance Officer, National Energy Technology Laboratory.

[FR Doc. 04-5881 Filed 3-15-04; 8:45 am]

BILLING CODE 6450-01-P